DEPARTMENT OF THE INTERIOR

Minerals Management Service

30 CFR Part 250

Oil and Gas and Sulphur Operations in the Outer Continental Shelf-Update on Revised/Reaffirmed Documents Incorporated by Reference

Correction

In rule document 00-7267 beginning on page 15862 in the issue of Friday, March 24, 2000, make the following corrections:

§250.198 [Corrected]

1. On page 15863, in §250.198(e), in the third line of the table, “Chapter,” should read “Chapter 4,”.

2. On the same page, in the same section, in the “Incorporated by reference at” column, in the sixth and seventh entries, “§250.1202(a)(3) and (1)(4)” should read “§250.1202(a)(3) and (l)(4)”.

[FR Doc. C0-7267 Filed 4-6-00; 8:45 am]

BILLING CODE 1505-01-D

DEPARTMENT OF JUSTICE

Immigration and Naturalization Service

8 CFR Parts 214 and 248

[INS No. 2000-99]

RIN 1115-AF51

Irish Peace Process Cultural and Training Program

Correction

In rule document 00-6818 beginning on page 14774 in the issue of Friday, March 17, 2000, make the following corrections:

1. On page 14774, in the first column, in the second line from the bottom, “Peach” should read, “Peace”.

2. On the same page, in the third column, in the third paÿ7Eÿ7Eragraph, in the sixth line,“T&A” should read, “T&EA”.

3. On page 14775, in the first column, 14 lines from the bottom, “Weihle ” should read “Wiehle ”.

4. On the same page, in the second column, in the fourth line, after “promotion” add “agriculture/horticulture diversification, food processing,”

5. On the same page, in the same column, in the second line from the bottom, “participation” should read “participate”.

6. On page 14776, in the first column, second full paragraph, in the first line, “25.1” should read, “265.1”.

§214.2 [Corrected]

7. On page 14779, in the second column, in §214.2(q)(15)(x), after the last line, add “*****”.

8. On the same page, in the same column, in amendatory instruction 8c., “Paragraph (q)(3)(iv);(D)” should read, “Paragraph (q)(3)(iv)(D);”.

9. On the same page, in the third column, in amendatory instruction 10., the last line should read “paragraphs (q)(5)(i), (q)(7)(ii), and (q)(8)(ii)”.

10. On the same page, in the same column, in amendatory instruction 11., in the fourth line, after “visitors”, remove “to read international cultural exchange visitors”.

11. On the same page, in the same column, in amendatory instruction 12., in the second and fourth lines, “visitors” should read “visitor”.

12. On the same page, in the same column, in amendatory instruction 14., in the second line “revised ” should read “revising”.

§248.3 [Corrected]

13. On page 14780, in §248.3(d), in the first column, in the seventh line, “free” should read “fee”.

14. On the same page, §248.3(e)(2) in the second column, in the third line, after “spouse”, “of” should read “or”.

[FR Doc. C0-6818 Filed 4-6-00; 8:45 am]

BILLING CODE 1505-01-D

MISSISSIPPI RIVER COMMISSION

Sunshine Act Meeting

Correction

In notice document 00-6997 appearing on page 15019 in the issue of March 20, 2000, make the following correction:

In the second column, seven lines from the bottom,“April 10, 2000” should read “April 11, 2000”.

[FR Doc. C0-6997 Filed 4-6-00; 8:45 am]

BILLING CODE 1505-01-D